DEPARTMENT OF TRANSPORTATION

National Highway Traffic Safety Administration

[Docket No. NHTSA-2008-0106]

NHTSA's Activities Under the United Nations Economic Commission for Europe 1998 Global Agreement; Electronic Stability Control

AGENCY: National Highway Traffic Safety Administration (NHTSA).

ACTION: Request for comments.

SUMMARY: NHTSA is issuing this notice to publish the schedule of upcoming meetings of WP.29 and its working parties of experts for the remainder of calendar year and to inform the public that a vote to establish a Global Technical Regulation (GTR) on Electronic Stability Control is planned for the June 2008 session of the World Forum for Harmonization of Vehicle Regulations (WP.29). In anticipation of this, NHTSA is requesting comment to inform its decision for the vote.

DATES: Written comments may be submitted to this agency by June 20, 2008.

ADDRESSES: You may submit comments [identified by DOT Docket No. NHTSA-2008-0106] by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays. Telephone: 1-800-647-5527.

• Fax: 202-493-2251.

Instructions: All submissions must include the agency name and docket number for this proposed collection of information. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Docket: For access to the docket to read background documents or comments received, go to http://www.regulations.gov or the street address listed above. Follow the online instructions for accessing the dockets.

FOR FURTHER INFORMATION CONTACT: Mr. Ezana Wondimneh, Division Chief, International Policy and Harmonization (NVS-133), National Highway Traffic Safety Administration, 1200 New Jersey Avenue, SE., Washington, DC 20590; phone (202) 366-0846, fax (202) 493-2280.

SUPPLEMENTARY INFORMATION:

Table of Contents

I. List of Meetings of WP.29 and Its Working Parties of Experts

II. Electronic Stability Control

I. List of Meetings of WP.29 and Its Working Parties of Experts

The following lists meetings of WP.29 and its subsidiary working parties of experts for vehicle safety for the remainder of calendar year 2008. In addition to the below meetings, working parties of experts may schedule, if necessary, informal sessions outside their regular schedule in order to address technical matters specific to GTRs under consideration. The formation and timing of these groups are recommended by the sponsor and chair of the group and are approved by WP.29 and AC.3. The schedule and place of meetings are made available to interested parties in proposals and periodic reports which are posted on the Web site of WP.29. Note that this schedule supersedes the one published in the last Federal Register notice (71 FR 59582).

2008 Schedule of Meetings of WP.29 and Its Working Parties of Experts

June

23—Administrative Committee for the Coordination of Work (WP.29/AC.2) (97th session).

24-27—World Forum for Harmonization of Vehicle Regulations (WP.29) (145th session) and Administrative Committee of the 1958 Agreement (AC.1) (39th session) and Executive Committee of the 1998 Global Agreement (AC.3) (23rd session).

September

16-19—Working Party on Brakes and Running Gear (GRRF) (64th session).

29-Oct 1—Working Party on Lighting and Light Signaling (GRE) (60th session).

October

21-24—Working Party on General Safety Provisions (GRSG) (95th session).

November

10—Administrative Committee for the Coordination of Work (WP.2/AC.2) (98th session).

11-14—World Forum for Harmonization of Vehicle Regulations (WP.29) (146th session); Administrative Committee of the 1958 Agreement (AC.1) (40th session); Executive Committee of the 1998 Global Agreement (AC.3) (24th session).

December

10-12—Working Party on Passive Safety (GRSP) (44th session).

II. Electronic Stability Control

In early 2007, the United States proposed the development of a Global Technical Regulation (GTR) under the 1998 Agreement for Electronic Stability Control (ESC) systems. The proposal noted that studies from around the world indicate that ESC systems are very effective in reducing single-vehicle crashes involving light vehicles (such as passenger cars, multipurpose passenger vehicles, pickup trucks and mini buses weighing 4,536 kg or less). As an example, a study of ESC systems in the U.S. indicated that ESC systems could potentially reduce single-vehicle crashes of passenger cars by 34 per cent and single vehicle crashes of sport utility vehicles (SUVs) by 59 percent. The proposal was accepted by the Executive Committee (AC.3) of the 1998 Global Agreement and was assigned to the Group of Experts for Brakes and Running Gear (GRRF) for technical development under the sponsorship of the U.S. and the European Commission.

The GRRF, through its regular sessions and several informal working group meetings chaired by the U.S and the European Commission, worked over the past year to prepare the draft regulation and has forwarded it to the AC.3 for establishment through consensus voting by the Contracting Parties to the 1998 Global Agreement. The draft GTR can be found in the docket for this notice (ECE/TRANS/WP.29/2008/69). Noting that the performance, equipment, and other requirements of the GTR are based on the U.S. final rule (Federal Motor Vehicle Safety Standard No. 126), NHTSA is requesting comment on the draft document to inform its decision for the vote, which is scheduled for the June 2008 session of WP.29. It is expected that if the regulation is established and subsequently adopted by the Contracting Parties, the potential benefits that have been calculated for the U.S. market may very well be duplicated in many other countries and jurisdictions worldwide.

Publication of this information is in accordance with the NHTSA Statement of Policy regarding Agency Policy Goals and Public Participation in the Implementation of the 1998 Global Agreement on Global Technical Regulations.

Issued on: May 30, 2008.
Stephen R. Kratzke,
Associate Administrator for Rulemaking.

[FR Doc. E8-12499 Filed 6-3-08; 8:45 am]

BILLING CODE 4910-59-P